DEPARTMENT OF COMMERCE

Bureau of Industry and Security

Emerging Technology and Research Advisory Committee; Notice of Open Meeting

The Emerging Technology and Research Advisory Committee (ETRAC) will meet on March 12, 2015, 8:45 a.m., Room 3884, at the Herbert C. Hoover Building, 14th Street between Pennsylvania and Constitution Avenues NW., Washington, DC The Committee advises the Office of the Assistant Secretary for Export Administration on emerging technology and research activities, including those related to deemed exports.

Agenda

Thursday, March 12

Open Session

1. Welcome and Introductions

2. Opening Remarks by the Assistant Secretary for Export Administration

3. Report on Association of University Export Control Officials, Washington, DC Conference

4. Presentation by Dr. Peter M. Vallone, National Institute of Standards and Technology

5. Tentative-Update on Wassenaar deliberations

6. Cuba Update

7. Recruitment of ETRAC members

8. Harmonization of definitions-fundamental research

9. Report: Export Control Classification Number Review

10. Review by ETRAC committee members of their assigned categories to determine viability

The open session will be accessible via teleconference to 20 participants on a first come, first serve basis. To the conference, submit inquiries to Ms. Yvette Springer at Yvette.Springer@bis.doc.gov, no later than March 5, 2015.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: February 23, 2015.
Yvette Springer,
Committee Liaison Officer.

[FR Doc. 2015-04268 Filed 2-26-15; 8:45 am]

BILLING CODE 3510-JT-P